DEPARTMENT OF ENERGY

Federal Energy Regulatory Commission

[Docket Nos. ER06-741-000; ER06-742-000; ER06-749-000; ER06-750-000; ER06-751-000; ER06-752-000; ER06-753-000; ER06-754-000; ER06-755-000; ER06-756-000]

KIAC Partners; Nissequogue Cogen Partners; Carville Energy LLC; Morgan Energy Center, LLC; Columbia Energy LLC; Pine Bluff Energy, LLC; CPN Pryor Funding Corporation; Auburndale Power Partners, L.P.; Calpine Gilroy Cogen, L.P.; Los Medanos Energy Center, LLC; Notice of Issuance of Order

May 3, 2006.

Carville Energy, LLC, Morgan Energy Center, LLC, Columbia Energy LLC, Pine Bluff Energy, LLC, Auburndale Power Partners, L.P., CPN Pryor Funding Corporation, KIAC Partners, Nissequogue Cogen Partners, Calpine Gilroy Cogen, LP and Los Medanos Energy LLC (the Calpine Entities) filed applications for market-based rate authority, with accompanying tariffs. The proposed market-based rate tariffs provide for the sale of energy, capacity and ancillary services at market-based rates. The Calpine Entities also requested waiver of various Commission regulations. In particular, the Calpine Entities requested that the Commission grant blanket approval under 18 CFR part 34 of all future issuances of securities and assumptions of liability by the Calpine Entities.

On April 24, 2006, pursuant to delegated authority, the Director, Division of Tariffs and Market Development—West, granted the request for blanket approval under part 34. The Director's order also stated that the Commission would publish a separate notice in the Federal Register establishing a period of time for the filing of protests. Accordingly, any person desiring to be heard or to protest the blanket approval of issuances of securities or assumptions of liability by the Calpine Entities should file a motion to intervene or protest with the Federal Energy Regulatory Commission, 888 First Street, NE., Washington, DC 20426, in accordance with Rules 211 and 214 of the Commission's Rules of Practice and Procedure. 18 CFR 385.211, 385.214 (2004).

Notice is hereby given that the deadline for filing motions to intervene or protest is April 24, 2006.

Absent a request to be heard in opposition by the deadline above, the Calpine Entities are authorized to issue securities and assume obligations or liabilities as a guarantor, indorser, surety, or otherwise in respect of any security of another person; provided that such issuance or assumption is for some lawful object within the corporate purposes of the Calpine Entities, compatible with the public interest, and is reasonably necessary or appropriate for such purposes.

The Commission reserves the right to require a further showing that neither public nor private interests will be adversely affected by continued approval of the Calpine Entities' issuances of securities or assumptions of liability.

Copies of the full text of the Director's Order are available from the Commission's Public Reference Room, 888 First Street, NE., Washington, DC 20426. The Order may also be viewed on the Commission's Web site at http://www.ferc.gov, using the eLibrary link. Enter the docket number excluding the last three digits in the docket number filed to access the document. Comments, protests, and interventions may be filed electronically via the Internet in lieu of paper. See, 18 CFR 385.2001(a)(1)(iii) and the instructions on the Commission's Web site under the “e-Filing” link. The Commission strongly encourages electronic filings.

Magalie R. Salas,
Secretary.

[FR Doc. E6-7183 Filed 5-10-06; 8:45 am]

BILLING CODE 6717-01-P